DEPARTMENT OF THE TREASURY

Office of Foreign Assets Control

31 CFR Part 589

Publication of Ukraine-Related Web General License 12 and Subsequent Iterations

AGENCY: Office of Foreign Assets Control, Treasury.

ACTION: Publication of web general licenses.

SUMMARY: The Department of the Treasury's Office of Foreign Assets Control (OFAC) is publishing four Ukraine-related web general licenses (GLs) in the Federal Register: GL 12, GL 12A, GL 12B, and GL 12C, each of which is now expired and was previously issued on OFAC's website.

DATES: GL 12C expired on June 5, 2018. See SUPPLEMENTARY INFORMATION of this rule for additional relevant dates.

ADDRESSES: Electronic availability: This document and additional information concerning OFAC are available on OFAC's website www.treasury.gov/ofac.

FOR FURTHER INFORMATION CONTACT:

OFAC: Assistant Director for Licensing, 202-622-2480; Assistant Director for Regulatory Affairs, 202-622-4855; or Assistant Director for Sanctions Compliance & Evaluation, 202-622-2490.

SUPPLEMENTARY INFORMATION:

Background

On March 6, 2014, the President, invoking the authority of, inter alia, the International Emergency Economic Powers Act (50 U.S.C. 1701-1706) (IEEPA), issued Executive Order (E.O.) 13660, “Blocking Property of Certain Persons Contributing to the Situation in Ukraine” (79 FR 13493, March 10, 2014). In E.O. 13660, the President determined that the actions and policies of persons including persons who have asserted governmental authority in the Crimean region without the authorization of the Government of Ukraine that undermine democratic processes and institutions in Ukraine; threaten its peace, security, stability, sovereignty, and territorial integrity; and contribute to the misappropriation of its assets, constitute an unusual and extraordinary threat to the national security and foreign policy of the United States, and declared a national emergency to deal with that threat.

The President subsequently issued E.O. 13661 of March 16, 2014, “Blocking Property of Additional Persons Contributing to the Situation in Ukraine” (79 FR 15535, March 19, 2014), and E.O. 13662 of March 20, 2014, “Blocking Property of Additional Persons Contributing to the Situation in Ukraine” (79 FR 16169, March 24, 2014), pursuant to the national emergency declared in E.O. 13660. E.O. 13661 and E.O. 13662 expanded the scope of the national emergency declared in E.O. 13660. On May 8, 2014, OFAC published the Ukraine Related Sanctions Regulations, 31 CFR part 589 (the “Regulations”), to implement E.O. 13660, E.O. 13661, and E.O. 13662 (79 FR 26365, May 8, 2014). The President has issued additional Executive orders pursuant to the national emergency declared in E.O. 13660, and expanded in E.O. 13661 and E.O. 13662, which are not discussed in this publication as they are not relevant to the web GLs being published.

OFAC, in consultation with the Department of State, issued GL 12 on April 6, 2018, pursuant to the Regulations, to authorize certain transactions and activities ordinarily incident and necessary to the maintenance or wind down of operations, contracts, or other agreements involving certain specified blocked persons and that were in effect prior to April 6, 2018, through 12:01 a.m. eastern daylight time, June 5, 2018. Subsequently, OFAC issued three further iterations of GL 12, each of which made slight adjustments to the scope of the authorizations in the GL: On April 23, 2018, OFAC issued GL 12A, which replaced and superseded GL 12; on May 1, 2018, OFAC issued GL 12B, which replaced and superseded GL 12A; and on May 22, 2018, OFAC issued GL 12C, which replaced and superseded GL 12B. The texts of GLs 12, 12A, 12B, and 12C are provided below.

OFFICE OF FOREIGN ASSETS CONTROL

Ukraine Related Sanctions Regulations 31 CFR Part 589

General License No. 12

Authorizing Certain Activities Necessary to Maintenance or Wind Down of Operations or Existing Contracts

(a) Except as provided in paragraph (c) of this general license, all transactions and activities otherwise prohibited by the Ukraine Related Sanctions Regulations, 31 CFR part 589, that are ordinarily incident and necessary to the maintenance or wind down of operations, contracts, or other agreements, including the importation of goods, services, or technology into the United States, involving one or more of the following blocked persons and that were in effect prior to April 6, 2018, are authorized through 12:01 a.m. eastern daylight time, June 5, 2018:

• AgroHolding Kuban

• Basic Element Limited

• B-Finance Ltd.

• EN+ Group PLC

• JSC EuroSibEnergo

• GAZ Group

• Gazprom Burenie, OOO

• Ladoga Menedzhment, OOO

• NPV Engineering Open Joint Stock Company

• Renova Group

• Russian Machines

• United Company RUSAL PLC

• Any other entity in which one or more of the above persons own, directly or indirectly, a 50 percent or greater interest

(b) Any payment to or for the direct or indirect benefit of a blocked person that is ordinarily incident and necessary to give effect to a transaction authorized in paragraph (a) of this general license must be made into a blocked, interest-bearing account located in the United States in accordance with 31 CFR 589.203.

(c) This general license does not authorize:

(1) The divestiture or transfer of debt, equity, or other holdings in, to, or for the benefit of the blocked persons listed above;

(2) Any transactions or dealings otherwise prohibited by any other part of 31 CFR chapter V, or any transactions or dealings with any blocked person other than the blocked persons listed in paragraph (a) of this general license;

(3) The unblocking of any property blocked pursuant to any part of 31 CFR chapter V, except as authorized by paragraph (a); or

(4) The exportation of goods from the United States.

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

Andrea Gacki

Acting Director

Office of Foreign Assets Control

Dated: April 6, 2018

OFFICE OF FOREIGN ASSETS CONTROL

Ukraine Related Sanctions Regulations 31 CFR Part 589

General License No. 12A

Authorizing Certain Activities Necessary to Maintenance or Wind Down of Operations or Existing Contracts

(a) Except as provided in paragraph (c) of this general license, all transactions and activities otherwise prohibited by the Ukraine Related Sanctions Regulations, 31 CFR part 589, that are ordinarily incident and necessary to the maintenance or wind down of operations, contracts, or other agreements, including the importation of goods, services, or technology into the United States, involving one or more of the following blocked persons and that were in effect prior to April 6, 2018, are authorized through 12:01 a.m. eastern daylight time, June 5, 2018:

• AgroHolding Kuban

• Basic Element Limited

• B-Finance Ltd.

• EN+ Group PLC

• JSC EuroSibEnergo

• GAZ Group

• Gazprom Burenie, OOO

• Ladoga Menedzhment, OOO

• NPV Engineering Open Joint Stock Company

• Renova Group

• Russian Machines

• United Company RUSAL PLC

• Any other entity in which one or more of the above persons own, directly or indirectly, a 50 percent or greater interest

(b) Any payment to or for the direct or indirect benefit of a blocked person that is ordinarily incident and necessary to give effect to a transaction authorized in paragraph (a) of this general license must be made into a blocked, interest-bearing account located in the United States in accordance with 31 CFR 589.203, except as authorized by Ukraine Related General License 14.

(c) This general license does not authorize:

(1) The divestiture or transfer of debt, equity, or other holdings in, to, or for the benefit of the blocked persons listed above;

(2) Any transactions or dealings otherwise prohibited by any other part of 31 CFR chapter V, or any transactions or dealings with any blocked person other than the blocked persons listed in paragraph (a) of this general license;

(3) The unblocking of any property blocked pursuant to any part of 31 CFR chapter V, except as authorized by paragraph (a); or

(4) The exportation of goods from the United States.

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective April 23, 2018, General License No. 12, dated April 6, 2018, is replaced and superseded in its entirety by this General License No. 12A.

John E. Smith

Director

Office of Foreign Assets Control

Dated: April 23, 2018

OFFICE OF FOREIGN ASSETS CONTROL

Ukraine Related Sanctions Regulations 31 CFR Part 589

General License No. 12B

Authorizing Certain Activities Necessary to Maintenance or Wind Down of Operations or Existing Contracts

(a) Except as provided in paragraph (d) of this general license, all transactions and activities otherwise prohibited by the Ukraine Related Sanctions Regulations, 31 CFR part 589, that are ordinarily incident and necessary to the maintenance or wind down of operations, contracts, or other agreements, including the importation of goods, services, or technology into the United States, involving one or more of the following blocked persons and that were in effect prior to April 6, 2018, are authorized through 12:01 a.m. eastern daylight time, June 5, 2018:

• AgroHolding Kuban

• Basic Element Limited

• B-Finance Ltd.

• EN+ Group PLC

• JSC EuroSibEnergo

• GAZ Group

• Gazprom Burenie, OOO

• Ladoga Menedzhment, OOO

• NPV Engineering Open Joint Stock Company

• Renova Group

• Russian Machines

• United Company RUSAL PLC

• Any other entity in which one or more of the above persons own, directly or indirectly, a 50 percent or greater interest

(b) Except as authorized by Ukraine Related General License 14, any payment to or for the direct or indirect benefit of a blocked person that is ordinarily incident and necessary to give effect to a transaction authorized in paragraph (a) of this general license must be made into a blocked, interest-bearing account located in the United States in accordance with 31 CFR 589.203. Any such payment that is directly or indirectly to the account of a blocked U.S. person identified in paragraph (a) at a U.S. financial institution may be processed in accordance with the original wire transfer instructions, provided that those instructions are consistent with this general license.

(c) All funds in accounts of blocked U.S. persons identified in paragraph (a), including funds originating from authorized payments to such accounts received on or after April 6, 2018, may be used for maintenance or wind-down activities authorized by this general license.

(d) This general license does not authorize:

(1) The divestiture or transfer of debt, equity, or other holdings in, to, or for the benefit of the blocked persons identified above;

(2) Any transactions or dealings otherwise prohibited by any other part of 31 CFR chapter V, or any transactions or dealings with any blocked person other than the blocked persons identified in paragraph (a) of this general license;

(3) The unblocking of any property blocked pursuant to any other part of 31 CFR chapter V; or

(4) The exportation of goods from the United States.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective May 1, 2018, General License No. 12A, dated April 23, 2018, is replaced and superseded in its entirety by this General License No. 12B.

John E. Smith

Director

Office of Foreign Assets Control

Dated: May 1, 2018

OFFICE OF FOREIGN ASSETS CONTROL

Ukraine Related Sanctions Regulations 31 CFR Part 589

General License No. 12C

Authorizing Certain Activities Necessary to Maintenance or Wind Down of Operations or Existing Contracts

(a) Except as provided in paragraph (d) of this general license, all transactions and activities otherwise prohibited by the Ukraine Related Sanctions Regulations, 31 CFR part 589, that are ordinarily incident and necessary to the maintenance or wind down of operations, contracts, or other agreements, including the importation of goods, services, or technology into the United States, involving one or more of the following blocked persons and that were in effect prior to April 6, 2018, are authorized through 12:01 a.m. eastern daylight time, June 5, 2018:

• AgroHolding Kuban

• Basic Element Limited

• B-Finance Ltd.

• EN+ Group PLC

• JSC EuroSibEnergo

• GAZ Group

• Gazprom Burenie, OOO

• Ladoga Menedzhment, OOO

• NPV Engineering Open Joint Stock Company

• Renova Group

• Russian Machines

• United Company RUSAL PLC

• Any other entity in which one or more of the above persons own, directly or indirectly, a 50 percent or greater interest

(b) Except as authorized by Ukraine Related General License 14 or Ukraine Related General License 15, any payment to or for the direct or indirect benefit of a blocked person that is ordinarily incident and necessary to give effect to a transaction authorized in paragraph (a) of this general license must be made into a blocked, interest-bearing account located in the United States in accordance with 31 CFR 589.203. Any such payment that is directly or indirectly to the account of a blocked U.S. person identified in paragraph (a) at a U.S. financial institution may be processed in accordance with the original wire transfer instructions, provided that those instructions are consistent with this general license.

(c) All funds in accounts of blocked U.S. persons identified in paragraph (a), including funds originating from authorized payments to such accounts received on or after April 6, 2018, may be used for maintenance or wind-down activities authorized by this general license.

(d) This general license does not authorize:

(1) The divestiture or transfer of debt, equity, or other holdings in, to, or for the benefit of the blocked persons identified above;

(2) Any transactions or dealings otherwise prohibited by any other part of 31 CFR chapter V, or any transactions or dealings with any blocked person other than the blocked persons identified in paragraph (a) of this general license;

(3) The unblocking of any property blocked pursuant to any other part of 31 CFR chapter V; or

(4) The exportation of goods from the United States.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective May 22, 2018, General License No. 12B, dated May 1, 2018, is replaced and superseded in its entirety by this General License No. 12C.

Andrea Gacki

Acting Director

Office of Foreign Assets Control

Dated: May 22, 2018

Dated: July 14, 2021.
Andrea M. Gacki,
Director, Office of Foreign Assets Control.

[FR Doc. 2021-15279 Filed 7-16-21; 8:45 am]

BILLING CODE 4810-AL-P